DEPARTMENT OF DEFENSE

Office of the Secretary

[Docket ID: DOD-2018-OS-0033]

Notice of Availability for Finding of No Significant Impact for the Environmental Assessment Addressing Construction and Operation of a Fiscal Year 2019 General Purpose Warehouse at Defense Logistics Agency Distribution Red River, Red River Army Depot, Texas

AGENCY: Defense Logistics Agency (DLA), Department of Defense.

ACTION: Notice of availability (NOA).

SUMMARY: On June 8, 2018, DLA published an NOA in the Federal Register announcing the publication of the Environmental Assessment (EA) Addressing Construction and Operation of a Fiscal Year 2019 (FY19) General Purpose Warehouse (GPW) at DLA Distribution Red River, Red River Army Depot, Texas. The EA was available for a 30-day public comment period that ended July 9, 2018. The EA was prepared as required under the National Environmental Policy Act (NEPA) of 1969. In addition, the EA complied with DLA and Army NEPA regulations. No comments from the public were received during the EA public comment period.

FOR FURTHER INFORMATION CONTACT: Ira Silverberg at 571-767-0705 during normal business hours Monday through Friday, from 8:00 a.m. to 4:30 p.m. (EST) or by email: ira.silverberg@dla.mil.

SUPPLEMENTARY INFORMATION: DLA and Red River Army Depot (RRAD) consulted with the Texas State Historic Preservation Officer (SHPO) at the Texas Historical Commission; the Texas Parks and Wildlife Department (TPWD); the Tribal Historic Preservation Officers of the Caddo Nation; the Comanche Nation; the Kiowa Tribe of Oklahoma; and the Wichita and Affiliated Tribes for this Proposed Action. The Texas SHPO stamped the Request for State Historic Preservation Office Consultation with a determination that no historic properties would be affected by the Proposed Action. The TPWD provided comments regarding state-listed species. DLA addressed TPWD's comments in the EA, as appropriate, and responded to the TPWD with an acknowledgment letter. The Kiowa Tribe of Oklahoma provided an approval to proceed with the Proposed Action with the understanding that the Kiowa Tribe Office of Historic Preservation be notified should any undiscovered properties be encountered. DLA and RRAD did not receive responses to the consultation requests with the other tribes. An appendix to the EA includes the agency and tribal consultation documents and the responses from the SHPO, the TPWD, and the Kiowa Tribe of Oklahoma. The revised EA is available electronically at the Federal eRulemaking Portal at http://www.regulations.gov within Docket ID: DOD-2018-OS-0033.

This Finding of No Significant Impact (FONSI) documents the decision of DLA to construct and operate an FY19 GPW at DLA Distribution Red River, Texas. DLA has determined the Proposed Action is not a major federal action the significantly affects the quality of the human environment within the context of NEPA, and no significant impacts on the human environment are associated with this decision.

DLA completed an EA to address the potential environmental consequences associated with the proposed construction and operation of an FY19 GPW at DLA Distribution Red River, Texas. This FONSI incorporates the EA by reference and summarizes the results of the analyses in the EA.

Purpose of and Need for Action: The purpose of the Proposed Action is to provide DLA Distribution Red River with sufficient warehouse space so that vehicle parts and other materiel can be stored in an appropriate manner. The Proposed Action is needed because DLA Distribution Red River has an immediate and long-term requirement for additional warehousing space. The shortfall of warehouse space has resulted in critical supplies being stored in unprotected outdoor settings. Storage of materiel outdoors has led to new and otherwise serviceable equipment being weathered and, in some cases, deteriorating to the point of inoperability. Additionally, placement of materiel adjacent to buildings also prevents fire fighting equipment from fully accessing the exterior of buildings.

Proposed Action and Alternatives: Under the Proposed Action, DLA would construct and operate an FY19 GPW. The 445,500-square foot (ft²) GPW would include a 5,500-ft² administrative area with an employee break room, locker rooms, restrooms, administrative offices, and mechanical and utility service areas. Other features of the proposed FY19 GPW include Early Suppression Fire Response fire protection, site information systems, weather sealed truck doors, loading docks, site lighting, storm drainage, paving (i.e., access roadways, aprons, parking, and walkways), and related site improvements such as landscaping. Additionally, all necessary utilities, including electric, water, wastewater, natural gas, and communication services, would be extended to the proposed FY19 GPW. Construction of the proposed FY19 GPW would disturb approximately 1,460,000 ft² of currently undeveloped land.

The proposed FY19 GPW would not eliminate the entire shortfall of GPW space at DLA Distribution Red River. Therefore, once constructed, DLA would transfer only the most sensitive and valuable materiel from the existing outdoor storage areas on the installation into the FY19 GPW. Operation of the FY19 GPW would be consistent with existing and foreseeable future uses within RRAD as well as all applicable environmental policies and regulations.

Description of the No Action Alternative: Under the No Action Alternative, DLA would not construct a new FY19 GPW at DLA Distribution Red River, Texas. No changes to materiel storage conditions would result. Critical materiel that should be stored in warehouses would continue to be stored outdoors, which would result in equipment and other materiel deteriorating from exposure to weather and installation personnel being exposed to safety hazards. The No Action Alternative would not meet the purpose of and need for the Proposed Action.

Potential Environmental Impacts: No significant effects on environmental resources would be expected from the Proposed Action. Insignificant adverse effects on land use and recreation, noise, air quality, geological resources, water resources, biological resources, infrastructure and transportation, and hazardous materials and wastes would be expected. Insignificant, beneficial effects on land use, geological resources, water resources, and infrastructure and transportation also would be expected. Details of the environmental consequences are discussed in the EA, which is hereby incorporated by reference.

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any federal, state, or local laws. Based on the results of the analyses performed during preparation of the EA and consideration of comments received during the public comment period, Mr. Gordon B. Hackett III, Director, DLA Installation Management, concludes that construction and operation of a FY19 GPW at DLA Distribution Red River, Texas, does not constitute a major federal action significantly affecting the quality of the human environment within the context of NEPA. Therefore, an environmental impact statement for the Proposed Action is not required.

Dated: December 13, 2018.
Shelly E. Finke,
Alternate OSD Federal Register, Liaison Officer, Department of Defense.

[FR Doc. 2018-27347 Filed 12-17-18; 8:45 am]

BILLING CODE 5001-06-P